DEPARTMENT OF AGRICULTURE

Animal and Plant Health Inspection Service

[Docket No. APHIS-2025-0014]

General Conference Committee of the National Poultry Improvement Plan

AGENCY: Animal and Plant Health Inspection Service, USDA.

ACTION: Notice of public meeting.

SUMMARY: We are giving notice that the General Conference Committee of the National Poultry Improvement Plan will be holding a public meeting.

DATES: The General Conference Committee public meeting will be held on Thursday, July 17, 2025, beginning at 7:30 a.m. and end no later than 1:30 p.m.

ADDRESSES: The meeting will be held at the DoubleTree by Hilton Bloomington-Minneapolis South Hotel, 7800 Normandale Blvd., Minneapolis, MN 55439.

FOR FURTHER INFORMATION CONTACT: Dr. Savannah Busby, Acting Senior Coordinator, National Poultry Improvement Plan, VS, APHIS, USDA, 1506 Klondike Road, Suite 301, Conyers, GA 30094; (770) 922-3496; email: Savannah.Busby@usda.gov.

SUPPLEMENTARY INFORMATION: The General Conference Committee (the Committee) of the National Poultry Improvement Plan (NPIP), representing cooperating State agencies and poultry industry members, serves an essential function by acting as liaison between the poultry industry and the Department in matters pertaining to poultry health.

Topics for discussion at the upcoming meeting include:

1. Avian Influenza Update.

2. Salmonella Update.

3. Mycoplasma Update.

4. New Diagnostic Tests Seeking NPIP Approval.

The meeting will be open to the public; however, APHIS will be unable to allow public participation in session discussions due to time constraints. Written statements may be filed with the Committee before or after the meeting. Statements filed with the Committee must include the name of the Agency contact as listed under FOR FURTHER INFORMATION CONTACT. Please refer to Docket No. APHIS-2025-0014 when submitting your statements.

Reasonable Accommodations

If needed, please request reasonable accommodations by contacting the person listed under FOR FURTHER INFORMATION CONTACT. Requests made after that date may be considered, but it may not be possible to fulfill them.

This notice of meeting is given pursuant to section 10 of the Federal Advisory Committee Act (5 U.S.C. 10).

Equal opportunity practices, in line with U.S. Department of Agriculture (USDA) policies and consistent with applicable law, will be followed in all membership appointments to the Committee.

In accordance with Federal civil rights law and U.S. Department of Agriculture (USDA) civil rights regulations and policies, the USDA, its Agencies, offices, and employees, and institutions participating in or administering USDA programs are prohibited from discriminating based on race, color, national origin, religion, sex, disability, age, marital status, family/parental status, income derived from a public assistance program, political beliefs, or reprisal or retaliation for prior civil rights activity, in any program or activity conducted or funded by USDA (not all bases apply to all programs). Remedies and complaint filing deadlines vary by program or incident.

Persons with disabilities who require alternative means for communication of program information (Braille, large print, audiotape, etc.) should contact USDA's TARGET center at (202) 720-2600 (voice and TDD). Determinations for reasonable accommodation will be made on a case-by-case basis.

Dated: June 17, 2025.
Cikena Reid,
USDA Committee Management Officer.

[FR Doc. 2025-11686 Filed 6-24-25; 8:45 am]

BILLING CODE 3410-34-P